DEPARTMENT OF AGRICULTURE

Forest Service

Helena-Lewis and Clark National Forest, Montana; Helena-Lewis and Clark National Forest Plan Revision

AGENCY: Forest Service, USDA.

ACTION: Notice of intent to prepare an environmental impact statement.

SUMMARY: As directed by the National Forest Management Act, the U. S. Department of Agriculture, Forest Service, is preparing the Helena-Lewis and Clark National Forest's revised land management plan (forest plan). The Forest Service will prepare an environmental impact statement (EIS) for its revised forest plan.

This notice briefly describes the proposed action based on the need to change the existing plans, the nature of the decision to be made, and information concerning public participation. This notice also provides estimated dates for filing the EIS, the name and address of the responsible agency officials, and the individuals who can provide additional information. Finally, this notice identifies the applicable planning rule that will be used for completing the plan revision.

The revised Helena-Lewis and Clark Forest Plan will supersede the existing Helena National Forest and Lewis and Clark National Forest plans that were approved by the Regional Forester in 1986. The existing forest plans will remain in effect until the revised forest plan takes effect.

In response to this notice, we are asking for comments on the proposed action so we may refine it and identify possible alternatives.

DATES: Comments concerning the scope of the analysis must be received by March 30, 2017. The draft environmental impact statement is expected November 2017 and the final environmental impact statement is expected August 2018.

ADDRESSES: Comments may be sent via email to https://cara.ecosystem-management.org/Public/CommentInput?Project=44589, or via facsimile to 406-449-5436. Written comments may be mailed or delivered to the Helena-Lewis and Clark National Forest Supervisor's Office, Attn: Forest Plan Revision, 2880 Skyway Dr., Helena, Montana 59602.

FOR FURTHER INFORMATION CONTACT: Deb Entwistle, Acting Revision Team Leader, Helena-Lewis and Clark National Forest, 2880 Skyway Dr., Helena, Montana 59602, (406) 449-5201.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the Helena-Lewis and Clark National Forest Plan Revision is to have an integrated set of plan direction to provide for social, economic, and ecological sustainability and multiple uses of the Helena-Lewis and Clark lands and resources. The plan sets forth the overall context for informed decision making by evaluating and integrating social, economic, and ecological considerations relevant to management of the forest.

The need for the proposed action is due to the significant changes that have occurred in conditions and demands since the Helena National Forest and the Lewis and Clark National Forest plans were signed in 1986. In addition, the Helena National Forest and the Lewis and Clark National Forest were recently administratively combined. The consolidation of the two forests was approved by the Under Secretary for Natural Resources and the Environment on December 11, 2015.

Several areas where changes are needed in the Helena-Lewis and Clark National Forest Plan were brought to the forefront by the requirements of the 2012 Planning Rule for the National Forest System; findings from the development of the Assessment of the Helena-Lewis and Clark National Forest (a precursor document in the planning process that identified and evaluated the existing condition across the forest landscape); changes in conditions and demands since the 1986 forest plans; and public concerns to date.

The 2012 Planning Rule, which became effective May 9, 2012, requires inclusion of plan components, including standards or guidelines, that address social and economic sustainability, ecosystem services, and multiple uses integrated with the plan components for ecological sustainability and species diversity. Social and economic management direction is needed to provide people and communities with a range of social and economic benefits for present and future generations. As an example, since approval of the Helena National Forest Plan in 1986 and the Lewis and Clark National Forest Plan in 1986, the role of timber harvest in meeting ecosystem management and social and economic objectives has changed. The 2012 Planning Rule requires forests to undertake a process to identify lands within the plan area for timber production suitability, and from this process, the Helena-Lewis and Clark National Forest will develop plan components for lands suitable for timber production and for lands where timber harvest is appropriate for purposes other than timber production. To meet the Planning Rule's requirement to provide for ecological sustainability, management direction is needed that addresses ecosystem diversity (including key ecosystem characteristics and their integrity), in light of changes in climate, fuels, vegetation management strategies, and future environmental conditions. Revised plan components are needed that focus on maintaining or restoring vegetation and ecosystems to provide for species diversity including threatened and endangered species, species of conservation concern, and species of public interest. Additionally, comprehensive management direction is needed to address suitability of certain areas for particular uses, address access and sustainable recreation, provide for the management of existing and anticipated uses, as well as protect resources. During the plan revision process, the 2012 Planning Rule requires the Forest Service to undertake processes to identify and evaluate lands that may be suitable for inclusion in the National Wilderness Preservation System and identify eligible rivers for inclusion into the National Wild and Scenic Rivers System.

Under the Endangered Species Act of 1973, federal agencies are directed to use their authorities to seek to conserve endangered and threatened species. The Canada lynx was listed as a threatened species in 2000. Since that time, the Helena and the Lewis and Clark National Forest plans have been amended with the Northern Rockies Lynx Management Direction (USDA FS 2007), the USFWS designated and updated Canada lynx critical habitat (USDI FWS 2009, 2014), and the Lynx Conservation and Assessment Strategy has been updated (Lynx Biology Team 2013). Thus, the Forest Plan needs to integrate recent and relevant information for Canada lynx to its plan.

In 2013, the U.S. Fish and Wildlife Service announced the availability of a draft Grizzly Bear Conservation Strategy for the Northern Continental Divide Ecosystem population for public review and input. When finalized, the Grizzly Bear Conservation Strategy will become the post-delisting management plan for the Northern Continental Divide Ecosystem grizzly bear population and its habitat. By providing relevant direction from the Northern Continental Divide Ecosystem Grizzly Bear Conservation Strategy into the forest plans, the Forest Service will be able to demonstrate to the U.S. Fish and Wildlife Service that adequate regulatory mechanisms exist on national forests within the Northern Continental Divide Ecosystem to support a delisted grizzly bear population.

Finally, public participation through scoping may identify other issues or concerns that will be considered during the plan revision.

Proposed Action

The Forest Service is preparing the Helena-Lewis and Clark National Forest revised land management plan (forest plan). The full proposed action for the revised forest plan includes forestwide and geographic area desired conditions, goals, objectives, standards, guidelines, and the suitability of lands for specific multiple uses, and includes lands that could be recommended to Congress for inclusion into the National Wilderness Preservation System and the identification of rivers eligible for inclusion into the National Wild and Scenic Rivers System. The proposed action includes a description of the plan area's distinctive roles and contributions within the broader landscape, the identification of priority restoration watersheds, and suitability of national forest lands to support a variety of proposed and possible actions that may occur on the plan area over the life of the plan. The proposed action also identifies a monitoring program. The proposed action and appendices can be found on the Helena-Lewis and Clark National Forest Revision Web site (www.fs.usda.gov/goto/hlc/forestplanrevision).

Responsible Official

The responsible official who will approve the Record of Decision for the Helena-Lewis and Clark National Forest revised forest plan is William Avey, Forest Supervisor for the Helena-Lewis and Clark National Forest, 2880 Skyway Dr., Helena, MT 59602, (406) 449-5201.

Nature of Decision To Be Made

For the Helena-Lewis and Clark National Forest plan revision, the responsible official will decide whether the required plan components (desired conditions, goals, objectives, standards, guidelines) are sufficient to promote the ecological integrity and sustainability of the Helena-Lewis and Clark National Forest's ecosystems, watersheds, and diverse plant and animal communities. In addition, the responsible official will decide if the plan provides sufficient management guidance to contribute to social and economic sustainability, to provide people and communities with ecosystem services and multiple uses including a range of social, economic, and ecological benefits for the present and into the future. Standards, guidelines, and other direction related to conservation of threatened and endangered species will be evaluated for the Helena-Lewis and Clark National Forest in the EIS.

This proposed action is programmatic in nature and guides future implementation of site-specific projects. Additional NEPA compliance would be required for site-specific projects as part of a two-stage decision making process (Council of Environmental Quality regulations for implementing NEPA; 40 CFR 1508.23, 42 U.S.C. 4322(2)(C)), 36 CFR 219.7(f)).

Scoping Process

This notice of intent initiates the scoping process, which guides the development of the environmental impact statement. We are seeking your input to continue to develop the Helena-Lewis and Clark National Forest revised plan.

Community meetings will be held to provide additional information and address questions related to the revision proposed action. Dates and locations are as follows:

• January 23, Lincoln Community Center, 5-7 p.m.

• January 24, Helena Radission Colonial Hotel, 4-7 p.m.

• January 25, Townsend Library, 5-7 p.m.

• January 26, White Sulpher Springs High School Library, 5-7 p.m.

• January 30, Harlowton Library, 11 a.m.-1 p.m.

• January 30, Stanford City Hall, 5-7 p.m.

• January 31, Great Falls Civic Center, 4-7 p.m.

• February 1, Browning Holiday Inn, 5-7 p.m.

• February 2, Choteau Stage Stop Inn, 5-7 p.m.

Any changes to the meeting schedule will be communicated on the Helena-Lewis and Clark National Forest Plan revision Web page at www.fs.usda.gov/goto/hlc/forestplanrevision.

It is important that reviewers provide their comments at such times and in such manner that they are useful to the agency's preparation of the environmental impact statement. Therefore, comments should be provided prior to the close of the comment period and should clearly articulate the reviewer's concerns and contentions. Further instructions for providing comments that will assist the planning team in reviewing comments can be found at www.fs.usda.gov/goto/hlc/forestplanrevision.

Only those individuals and entities who have submitted substantive formal comments related to the Helena-Lewis and Clark NF plan revision during the opportunities provided for public comment during the planning process will be eligible to file an objection (36 Code of Federal Regulations (CFR) 219.53(a)). The decision to approve the revised forest plan for the Helena-Lewis and Clark National Forest will be subject to the objection process identified in 36 CFR part 219 Subpart B (219.50 to 219.62).

Comments received in response to this solicitation, including names and addresses of those who comment, will be part of the public record for this proposed action. Comments submitted anonymously will be accepted and considered, however, anonymous comments will not provide the Agency with the ability to provide the respondent with subsequent environmental documents.

Dated: November 23, 2016.
William Avey,
Forest Supervisor, Helena-Lewis and Clark National Forest.

[FR Doc. 2016-28838 Filed 11-30-16; 8:45 am]

BILLING CODE 3411-15-P